DEPARTMENT OF TRANSPORTATION

Federal Aviation Administration

14 CFR Part 39

[Docket No. FAA-2008-0772; Directorate Identifier 2008-SW-30-AD; Amendment 39-15872; AD 2009-07-13]

RIN 2120-AA64

Airworthiness Directives; MD Helicopters, Inc. Model MD900 (including the MD902 Configuration) Helicopters

AGENCY: Federal Aviation Administration, DOT.

ACTION: Final rule.

SUMMARY: This amendment adopts a new airworthiness directive (AD) for the specified MD Helicopters, Inc. (MDHI) model helicopters that requires, within 30 days, reducing the current gross weight limit to a maximum gross weight limit of 5,400 pounds and inserting a copy of this AD into the Limitations section of the Rotorcraft Flight Manual (RFM) or making certain optional modifications that constitute terminating actions. This amendment is prompted by flight tests that show that the information currently listed in the Limitations section of the RFM is inconsistent with the actual performance of the helicopter. The actions specified by this AD are intended to prevent loss of directional control of the helicopter.

DATES: Effective May 14, 2009.

The incorporation by reference of certain publications listed in the regulations is approved by the Director of the Federal Register as of May 14, 2009.

ADDRESSES: You may get the service information identified in this AD from MD Helicopters Inc., Attn: Customer Support Division, 4555 E. McDowell Rd., Mail Stop M615, Mesa, Arizona 85215-9734, telephone 1-800-388-3378, fax 480-346-6813, or on the Web at http://www.mdhelicopters.com.

Examining the Docket: You may examine the docket that contains this AD, any comments, and other information on the Internet at http://www.regulations.gov or at the Docket Operations office, West Building Ground Floor, Room W12-140, 1200 New Jersey Avenue, SE., Washington, DC.

FOR FURTHER INFORMATION CONTACT: Chip Adam, Flight Test Pilot, FAA, Los Angeles Aircraft Certification Office, Flight Test Branch, 3960 Paramount Blvd., Lakewood, California 90712-4137, telephone (562) 627-5369, fax (562) 627-5210.

SUPPLEMENTARY INFORMATION: A proposal to amend 14 CFR part 39 to include an AD for the specified model helicopters was published in the Federal Register on July 28, 2008 (73 FR 43646). That action proposed to require, for helicopters that have not complied with MDHI Mandatory SB900-099 R1, dated December 27, 2006 (SB), reducing the gross weight limit to a maximum gross weight limit of 5,400 pounds and inserting a copy of the AD into the Limitations section of the RFM. These actions would be required within 30 days. The proposed AD also included optional terminating actions for the weight reduction. Those terminating actions would be to:

• Determine if a NOTAR fan felt seal part number (P/N) 900F3441025-103 is installed. If a NOTAR fan felt seal, P/N 900F3441025-103, is not installed, replace the installed seal with an airworthy NOTAR fan felt seal, P/N 900F3441025-103, before further flight; and

• Install a thruster extension kit in accordance with specified portions of SB.

We have reviewed the SB, which describes procedures for adjusting the directional control system rigging, installing a thruster extension kit, and verifying that a NOTAR fan felt seal, part number (P/N) 900F3441025-103 is installed. The SB specifies that failure to comply with the procedures may result in reduced anti-torque control during certain combinations of high gross weight, density altitude, and wind critical conditions. The SB also indicates that the maximum gross weight of the helicopter will be lowered if the SB is not complied with.

Interested persons have been afforded an opportunity to participate in the making of this amendment. No comments were received on the proposal or the FAA's determination of the cost to the public. The FAA has determined that air safety and the public interest require the adoption of the rule as proposed.

We estimate that this AD affects 31 helicopters of U.S. registry. The estimated lost revenue attributable to the gross weight reduction is $1,750,000 per helicopter over the life of the helicopter. It takes approximately work hour per helicopter to insert the AD into the Limitations section of the RFM; 8 work hours to adjust the directional control system rigging; 8 work hours to install a NOTAR fan felt seal; and 24 work hours to install a thruster extension kit at an average labor rate of $80 per work hour. The NOTAR fan felt seal and thruster extension kit cost approximately $16,000. However, the manufacturer has stated that they will provide the fan felt seal and the thruster extension kit to all operators at no cost to them and that they will also provide each affected operator a credit for the labor costs for a total of 32 work hours for those work hours required to perform the directional control rigging adjustment (8 work hours) and installation of the thruster extension kit (24 work hours). Based on these figures, the total estimated cost impact of this AD on U.S. operators is $1,920, assuming (1) The entire fleet chooses to modify their affected helicopter in accordance with the optional terminating action provision of this AD and there is no reduction in gross weight necessary, (2) the manufacturer covers all the costs of the parts and the labor costs associated with the rigging adjustment and installation of the thruster extension kit and (3) only 3 helicopters need to have a new fan felt seal installed.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2009-07-13 MD Helicopters, Inc.: Amendment 39-15872. Docket No. FAA-2008-0772; Directorate Identifier 2008-SW-30-AD.

Applicability: Model MD900 (including MD902 Configuration) helicopters that have not complied with MD Helicopters, Inc. (MDHI) Mandatory Service Bulletin SB900-099 R1, dated December 27, 2006, certificated in any category.

Compliance: Required as indicated, unless accomplished previously.

To prevent loss of directional control of the helicopter, accomplish the following:

(a) Within 30 days, reduce the gross weight limit to a maximum gross weight limit of 5,400 pounds by inserting a copy of this AD into the Limitations section of the Rotorcraft Flight Manual.

(b) As an optional terminating action for the weight reduction mandated by paragraph (a) of this AD, accomplish the following:

(1) Determine if a NOTAR fan felt seal part number (P/N) 900F3441025-103 is installed. If a NOTAR fan felt seal, P/N 900F3441025-103, is not installed, replace the installed seal with an airworthy NOTAR fan felt seal, P/N 900F3441025-103, before further flight.

(2) Install a thruster extension kit in accordance with the Accomplishment Instructions, paragraph B.(3). through (17). of MDHI Mandatory SB900-099 R1, dated December 27, 2006, before further flight. Contacting the manufacturer is not required by this AD.

(c) To request a different method of compliance or a different compliance time for this AD, follow the procedures in 14 CFR 39.19. Contact the Manager, Los Angeles Aircraft Certification Office, ATTN: Chip Adam, Flight Test Pilot, FAA, Flight Test Branch, 3960 Paramount Blvd., Lakewood, California 90712-4137, telephone (562) 627-5369, fax (562) 627-5210, for information about previously approved alternative methods of compliance.

(d) Special flight permits will not be issued.

(e) The modification shall be done in accordance with the specified portions of MDHI Mandatory SB900-099 R1, dated December 27, 2006. The Director of the Federal Register approved this incorporation by reference in accordance with 5 U.S.C. 552(a) and 1 CFR part 51. Copies may be obtained from MD Helicopters Inc., Attn: Customer Support Division, 4555 E. McDowell Rd., Mail Stop M615, Mesa, Arizona 85215-9734, telephone 1-800-388-3378, fax 480-346-6813, or on the Web at http://www.mdhelicopters.com. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(f) This amendment becomes effective on May 14, 2009.

Issued in Fort Worth, Texas, on March 26, 2009.
Mark R. Schilling,
Acting Manager, Rotorcraft Directorate, Aircraft Certification Service.

[FR Doc. E9-7780 Filed 4-8-09; 8:45 am]

BILLING CODE 4910-13-P